DEPARTMENT OF LABOR

Mine Safety and Health Administration

Petition for Modification of Application of Existing Mandatory Safety Standards

AGENCY: Mine Safety and Health Administration, Labor.

ACTION: Notice.

SUMMARY: This notice includes the summary of a petition for modification submitted to the Mine Safety and Health Administration (MSHA) by the party listed below.

DATES: All comments on the petition must be received by MSHA's Office of Standards, Regulations, and Variances on or before July 16, 2021.

ADDRESSES: You may submit your comments including the docket number of the petition by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452,

Attention: Jessica D. Senk, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Jessica D. Senk, Office of Standards, Regulations, and Variances at 202-693-9440 (voice), Senk.Jessica@dol.gov, (email), or 202-693-9441 (facsimile). [These are not toll-free numbers.]

SUPPLEMENTARY INFORMATION: Section 101(c) of the Federal Mine Safety and Health Act of 1977 and Title 30 of the Code of Federal Regulations (CFR) part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. The application of such standard to such mine will result in a diminution of safety to the miners in such mine.

In addition, sections 44.10 and 44.11 of 30 CFR establish the requirements for filing petitions for modification.

II. Petition for Modification

Docket Number: M-2021-001-M.

Petitioner: Haile Gold Mine, Inc., 7980 Haile Gold Mine Rd., Kershaw, SC (ZIP 29067).

Mine: Haile Gold Mine, MSHA ID No. 38-00600, located in Lancaster County, South Carolina.

Regulation Affected: 30 CFR 49.2(c) (Availability of mine rescue teams).

Modification Request: The petitioner requests a modification of the existing standard, 30 CFR 49.2(c), to permit an alternative method of compliance with the standard with respect to the requirement for a minimum of one year underground mine rescue experience for all members of an underground rescue team.

The petitioner states that:

(a) Haile Gold Mine is a small and remote mine, with no underground mine rescue coverage located in the State of South Carolina.

(b) The closest underground mine rescue stations that could provide mine rescue coverage are located in Luttrell, Tennessee, and Ellijay, Georgia. These are 275 miles and 341 miles away, respectively, by ground travel.

(c) Pursuant to 30 CFR 49.2(f), except where alternative compliance is permitted under 30 CFR 49.3 or 30 CFR 49.4, no mine served by a mine rescue team shall be located more than two hours ground travel time from the mine rescue station with which the rescue team is associated.

(d) The Haile Gold Mine currently employs approximately 536 miners and produces approximately 100,000 tons per day. The mine operates open pit and will commence underground mining in 2021 with two production shifts per day, operating seven days per week.

(e) The Haile Gold Mine proposes to provide the required mine rescue coverage during the expanded underground development with 12 fully trained employees. The underground development team will be comprised of current surface mine rescue, safety, and underground department employees, not all of whom will meet the required one year of underground rescue experience.

The petitioner proposes the following alternative method:

(a) Prior to initiation of underground development, each underground mine rescue team member will receive the following training from a fully qualified MSHA Underground Mine Rescue instructor:

1. 40 hours of 30 CFR. part 48 Underground Mining Safety Training;

2. Successful completion of physical/medical fitness exam in compliance with 30 CFR 49.7;

3. 20 hours of initial underground mine rescue training on the use, care, and maintenance of a BG-4 positive pressure closed circuit breathing apparatus;

4. First Aid and CPR certification; and

5. All other training required in 30 CFR part 49.

(b) A mine rescue station will be established on site compliant with 30 CFR 49.5.

(c) As the underground mine develops, additional surface mine rescue personnel onsite will receive the following training from a fully qualified MSHA Underground Mine Rescue instructor:

1. Successful completion of physical/medical fitness exam in compliance with 30 CFR 49.7;

2. 40 hours of 30 CFR part 48 Underground Mining Safety Training;

3. 20 hours of initial underground mine rescue training on the use, care, and maintenance on a BG-4 positive pressure closed circuit breathing apparatus; and;

4. All other training required in 30 CFR part 49.

(d). All underground rescue team members will attend monthly training following 30 CFR part 49 requirements after completion of their initial 20 hours of training.

The petitioner asserts that the alternate method proposed will at all times guarantee no less than the same measure of protection afforded the miners under the mandatory standard.

Jessica Senk,
Director, Office of Standards, Regulations, and Variances.

[FR Doc. 2021-12607 Filed 6-15-21; 8:45 am]

BILLING CODE 4520-43-P